DEPARTMENT OF HEALTH AND HUMAN SERVICES

Additional Consolidated Health Information (CHI) Health Information Technology Standards

AGENCY: Federal Health Architecture (FHA), Office of the National Coordinator for Health Information Technology (ONC).

ACTION: Notice: Additional Consolidated Health Informatics (CHI) Health Information Technology Standards.

SUMMARY: This notice identifies three (3) additional Consolidated Health Informatics (CHI) messaging and vocabulary standards (Multimedia, Allergy, and Disability and Assessments) adopted for use in Federal government health information technology systems. This work supplements the work to further the adoption of the first set of 5 standards adopted on March 21, 2003 and second set of 15 standards adopted on May 6, 2004, as published in the December 23, 2005 Federal Register (70 FR 76287).

The CHI initiative began in October 2001 as one of 24 E-Government initiatives included in the President's Management Agenda (PMA). The CHI collaborative worked to adopt Federal government-wide health information interoperability standards to be implemented by Federal agencies in order to enable the Fedral government to exchange electronic health information. By publication of this document, we are informing the public of the adoption of three new CHI standards, Multimedia, Allergy and Disability and Assessment (adoption reports available at: http://www.hhs.gov/healthit/chiinitiative.html).

CHI Adopted Standards

As a result of work completed in furtherance of CHI, the three new domain areas and associated clinical standards that have been adopted are noted in the individual standards adoption reports found at http://www.hhs.gov/healthit/chiinitiative.html and are summarized below:

1. Multimedia Messaging Standard:

• National Electrical Manufacturer's Association (NEMA) Digital Imaging and Communications in Medicine (DICOM℠) 2004 Standard and higher.

2. Allergy Messaging and Vocabulary Standard:

• Health Level Seven (HL7®) HL7® 2.4 and higher messaging standard allergy information segments.

• College of American Pathologists (CAP) Systematized Nomenclature of Medicine Clinical Terms (SNOMED CT®) for allergy type, severity and reaction codes.

• National Library of Medicine (NLM) RxNorm for brand name allergen code.

• Food and Drug Administration (FDA) Unique Ingredient Identifier (UNII) codes for ingredient name allergen code.

• Department of Veteran Affairs (VA) National Drug File-Reference Terminology (NDF-RT) for drug class allergen code.

• 3. Disability and Assessments:

• Regenstrief Institute, Inc LOINC® (Logical Observation Identifiers Names and Codes®) representation and codes for questions and answers on federally-required assessment forms;

• CHI-endorsed semantic vocabulary matches linked with the LOINC® assessment questions and answers; and

• HL7® v2.4 and higher messaging standard and the HL7® CDA (Clinical Document Architecture (CDA)) for exchanging standardized federally-required assessment content.

SUPPLEMENTARY INFORMATION: In 2006, the CHI initiative was transitioned to the Federal Health Architecture (FHA) under the Office of the National Coordinator for Health IT (ONC). Currently, the CHI standards are being coordinated with the public/private processes of Healthcare Information Technology Standards Panel (HITSP).

HITSP serves as a cooperative partnership between the public and private sectors for the purpose of achieving a widely accepted and useful set of standards specifically to enable and support widespread interoperability among healthcare software systems, as they will interact in a local, regional, and nationwide health information network.

CHI endorsement has been identified as one of the HITSP standards adoption criteria employed to adopt standards for the HITSP Interoperability Specifications. The HITSP Interoperability Specifications are developed to advance the national agenda for secure, interoperable health information systems. (Notice of Availability, 72 FR. 9339 (March 1, 2007).

Collection of Information Requirements

This notice does not impose information collection and recordkeeping requirements subject to review the paperwork Reduction Act of 1995 (44 U.S.C. 3501 et seq.)

Impact Statement

We foresee this notice having the following indirect effects upon the public: This notice will result in indirect impacts for Federal contractors or potential contractors who may be involved in health information technology design, development, or evaluation. The Federal government will require all future federal health information acquisitions to be based on CHI standards when applicable and as permitted by law, whether system development occurs within the Agency or through use of contractor services.

FOR FURTHER INFORMATION CONTACT: Vish Sankaran—(202) 205-2761.

Authority: The E-Government Act of 2002 (Pub. L. 107-347) (H.R. 2458).

Dated: December 7, 2007.
Robert M. Kolodner,
National Coordinator for Health Information Technology, Office of the National Coordinator for Health Information Technology.

[FR Doc. 07-6058 Filed 12-14-07; 8:45 am]

BILLING CODE 4150-45-M